NUCLEAR REGULATORY COMMISSION

10 CFR Part 50

[NRC-2014-0161]

RIN 3150-AJ43

Financial Qualifications for Reactor Licensing

AGENCY: Nuclear Regulatory Commission.

ACTION: Draft regulatory basis; public meeting and request for comment.

SUMMARY: The U.S. Nuclear Regulatory Commission (NRC) is soliciting public comment on a draft regulatory basis for a proposed rulemaking to amend the current financial qualification requirements of “reasonable assurance” to the review standard of “appears to be financially qualified.” The NRC plans to hold a public meeting to promote full understanding of this regulatory basis and facilitate public comment.

DATES: Submit comments by August 3, 2015. Comments received after this date will be considered if it is practical to do so, but the NRC is only able to ensure consideration of comments received on or before this date.

In addition to providing this opportunity to submit written (and electronic) comments, the NRC plans to hold a public meeting to discuss the draft regulatory basis for the proposed rulemaking on July 8, 2015. See Section V, “Public Meeting,” of this document for additional information regarding the public meeting.

ADDRESSES: You may submit comments by any of the following methods (unless this document describes a different method for submitting comments on a specific subject):

• Federal rulemaking Web site: Go to http://www.regulations.gov and search for Docket ID NRC-2014-0161. Address questions about NRC dockets to Carol Gallagher; telephone: 301-415-3463; email: Carol.Gallagher@nrc.gov. For technical questions, contact the individual listed in the FOR FURTHER INFORMATION CONTACT section of this document.

• Email comments to: Rulemaking.Comments@nrc.gov. If you do not receive an automatic email reply confirming receipt, then contact us at 301-415-1677.

• Fax comments to: Secretary, U.S. Nuclear Regulatory Commission at 301-415-1101.

• Mail comments to: Secretary, U.S. Nuclear Regulatory Commission, Washington, DC 20555-0001, ATTN: Rulemakings and Adjudications Staff.

• Hand deliver comments to: 11555 Rockville Pike, Rockville, Maryland 20852, between 7:30 a.m. and 4:15 p.m. (Eastern Time) Federal workdays; telephone: 301-415-1677.

For additional direction on obtaining information and submitting comments, see “Obtaining Information and Submitting Comments” in the SUPPLEMENTARY INFORMATION section of this document.

FOR FURTHER INFORMATION CONTACT: Yanely Malave, telephone: 301-415-1519, email: Yanely.Malave@nrc.gov; or Carolyn Lauron, telephone: 301-415-2736, email: Carolyn.Lauron@nrc.gov; both of the Office of New Reactors, U.S. Nuclear Regulatory Commission, Washington, DC 20555-0001.

SUPPLEMENTARY INFORMATION:

I. Obtaining Information and Submitting Comments

A. Obtaining Information

Please refer to Docket ID NRC-2014-0161 when contacting the NRC about the availability of information for this action. You may obtain publicly-available information related to this action by any of the following methods:

• Federal rulemaking Web site: Go to http://www.regulations.gov and search for Docket ID NRC-2014-0161.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The draft regulatory basis is available in ADAMS under Accession No. ML14324A706.

• NRC's PDR: You may examine and purchase copies of public documents at the NRC's PDR, Room O1-F21, One White Flint North, 11555 Rockville Pike, Rockville, Maryland 20852.

B. Submitting Comments

Please include Docket ID NRC-2014-0161 in the subject line of your comment submission.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

The NRC is requesting comments on a draft regulatory basis to support a proposed rulemaking on financial qualifications for reactor licensing. The regulatory basis explains, in part, why the existing regulations should be updated. It also discusses cost and other impacts of the potential changes.

The specific objective of this proposed rulemaking would be to amend the current financial qualification requirements of “reasonable assurance” under 10 CFR part 50 to conform to the 10 CFR part 70 review standard of “appears to be financially qualified.” Specifically, the proposed rulemaking will remove the detailed requirements found in Appendix C of 10 CFR Part 50 and amend 10 CFR 50.33(f) to remove the requirement for a power reactor applicant to demonstrate that it possesses or can provide reasonable assurance of obtaining the funds necessary for construction and operation. In this proposed rulemaking, the applicant would be required to submit a plan describing how it will proceed to finance the construction and operation of the facility. The plan would ensure that the applicant has both a well-articulated understanding of the size of the project it is undertaking and the financial capacity to obtain the necessary financing before beginning reactor construction.

The proposed rulemaking would permit the NRC to issue licenses with conditions to applicants that may have insufficient (or no) funding at the outset of the license application review. The license conditions would be sufficient and specific to permit a simple, ministerial kind of review to ensure that the applicant's plan is executed before beginning reactor construction.

III. Specific Requests for Comments

The NRC requests that stakeholders consider the questions in Enclosure 2 of the draft regulatory basis. The questions, identified during development of the draft regulatory basis, cover the scope, objectives, implementation, and cost of a proposed rulemaking based on this regulatory basis.

IV. Cumulative Effects of Regulation

The Cumulative Effects of Regulation (CER) describes the challenges that licensees, or other impacted entities (such as State agency partners) may face while implementing new regulatory positions, programs, and requirements (e.g., rules, generic letters, backfits, inspections). The CER is an organizational effectiveness challenge that results from a licensee or impacted entity implementing a number of complex positions, programs or requirements within a limited implementation period and with available resources (which may include limited available expertise to address a specific issue). The NRC has implemented CER enhancements to the rulemaking process to facilitate public involvement throughout the rulemaking process. Therefore, the NRC is specifically requesting comment on the cumulative effects that may result from this proposed rulemaking. In developing comments on the draft regulatory basis, consider the following questions:

(1) In light of any current or projected CER challenges, what should be a reasonable effective date, compliance date, or submittal date(s) from the time the final rule is published to the actual implementation of any new proposed requirements including changes to programs, procedures, or the facility?

(2) If current or projected CER challenges exist, what should be done to address this situation (e.g., if more time is required to implement the new requirements, what period of time would be sufficient, and why such a time frame is necessary)?

(3) Do other regulatory actions (e.g., orders, generic communications, license amendment requests, and inspection findings of a generic nature) by NRC or other agencies influence the implementation of the potential proposed requirements?

(4) Are there unintended consequences? Does the potential proposed action create conditions that would be contrary to the potential proposed action's purpose and objectives? If so, what are the consequences and how should they be addressed?

(5) Please provide information on the costs and benefits of the potential proposed action. This information will be used to support any regulatory analysis by the NRC.

V. Public Meeting

A public meeting will be held on July 8, 2015, from 1:00 p.m.-4:00 p.m. at the NRC Headquarters, One White Flint North, 11555 Rockville Pike, Rockville, Maryland, Room O-4B6.

The purpose of the public meeting is to promote full understanding of this regulatory basis for the proposed rulemaking and to facilitate public comment. The NRC will not be accepting verbal or written comments at the public meeting. All comments must be submitted as indicated in the ADDRESSES section of this document.

Stakeholders should monitor the NRC's public meeting Web site for information about the public meeting at http://www.nrc.gov/public-involve/public-meetings/index.cfm.

VI. Plain Writing

The Plain Writing Act of 2010 (Pub. L. 111-274) requires Federal agencies to write documents in a clear, concise, well-organized manner. The NRC has written this document to be consistent with the Plain Writing Act as well as the Presidential Memorandum, “Plain Language in Government Writing,” published June 10, 1998 (63 FR 31883). The NRC requests comment on this document with respect to the clarity and effectiveness of the language used.

Dated at Rockville, Maryland, this 9th day of June, 2015.
For the Nuclear Regulatory Commission.
Mark Tonacci,
Acting Director, Division of Advanced Reactors and Rulemaking, Office of New Reactors.

[FR Doc. 2015-14907 Filed 6-16-15; 8:45 am]

BILLING CODE 7590-01-P